DEPARTMENT OF THE INTERIOR

National Park Service

[NPS-WASO-NAGPRA-21382; PPWOCRADN0-PCU00RP14.R50000]

Notice of Inventory Completion: Museum of the American Indian, Novato, CA

AGENCY: National Park Service, Interior.

ACTION: Notice.

SUMMARY: The Museum of the American Indian has completed an inventory of human remains, in consultation with the appropriate Indian tribe, and has determined that there is a cultural affiliation between the human remains and a present-day Indian tribe. Lineal descendants or representatives of any Indian tribe or Native Hawaiian organization not identified in this notice that wish to request transfer of control of these human remains should submit a written request to the Museum of the American Indian. If no additional requestors come forward, transfer of control of the human remains to the Indian tribe stated in this notice may proceed.

DATES: Lineal descendants or representatives of any Indian tribe or Native Hawaiian organization not identified in this notice that wish to request transfer of control of these human remains should submit a written request with information in support of the request to the Museum of the American at the address in this notice by August 11, 2016.

ADDRESSES: Colleen Hicks, Museum of the American Indian, P.O. Box 864, Novato, CA 94948, telephone (415) 897-4064, fax (415) 892-7804, email office@marinindian.com.

SUPPLEMENTARY INFORMATION: Notice is here given in accordance with the Native American Graves Protection and Repatriation Act (NAGPRA), 25 U.S.C. 3003, of the completion of an inventory of human remains under the control of the Museum of the American Indian. The human remains were removed from Marin County, CA.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Museum of the American Indian professional staff in consultation with representatives of the Federated Indians of Graton Rancheria, California.

History and Description of the Remains

Between 1966 and 1967, human remains representing, at minimum, five individuals were removed from site CA-MRN-365, in Novato, Marin County, CA, during field school projects at the Miwok Park. The human remains are eight small fragments that were mixed with faunal collections from the site. During the excavations, several house floors were uncovered and multiple burials were removed. The human remains from these burials were repatriated and reinterred prior to the passage of NAGPRA. The faunal collection was donated to the Museum of the American Indian, and the additional human remains discussed in this notice were discovered during a reevaluation of the faunal collection between 2012 and 2014. No known individuals were identified. No associated funerary objects are present.

In 2007, human remains representing, at minimum, five individuals were removed from site CA-MRN-365, in Novato, Marin County, CA, during archeological evaluations for a building project at the Miwok Park by Tom Origer and Associates. The human remains are seven small fragments that were mixed with faunal collections from the site. The human remains were discovered during a reevaluation of the faunal collection between 2012 and 2014. No known individuals were identified. No associated funerary objects are present.

Site CA-MRN-365 is within the traditional area of the Coast Miwok Indians. It is estimated that the Miwok occupied the site for over 3000 years, though perhaps not continuously. The economy of the area was based on marsh resources with hunting and gathering in this North Coast Range area. The semi-permanent village usually had several family groups that migrated to other seasonal camps throughout the growing season. It is a multi-component site, first documented by Al Elsasser in 1961, with artifact assemblages indicating an occupation from 3000 to 500 years from present date. The site is located along a creek bed and extends about 100 feet along the bank. The site was greatly disturbed by grading for a housing project and the equipment storage area.

In 1966, human remains representing, at minimum, three individuals were removed from site CA-MRN-26, in Tiburon, Marin County, CA, during a salvage project by archeologist John McBeth. The human remains are 17 fragments found in an isolated box. In the 1970s, most of the human remains from this site were transferred to San Francisco State University. The additional human remains discussed in this notice were discovered during the evaluation of the archeological collection between 2012 and 2014. No known individuals were identified. No associated funerary objects are present.

Site CA-MRN-26 is within the traditional area of the Coast Miwok Indians. It is estimated that the Miwok occupied the area for over 3000 years, though perhaps not continuously. The economy of the area was based on marsh resources with hunting and gathering in this North Coast Range area

Prior to 1967, human remains representing, at minimum, one individual were removed from site CA-MRN-366, in Novato, Marin County, CA, in an eroded area of the creek. The human remains are a small skull fragment donated to the museum in 1967. No known individuals are present. No associated funerary objects are present.

Site CA-MRN-366 is within the traditional area of the Coast Miwok Indians. It is estimated that the Miwok occupied the area for over 3000 years, though perhaps not continuously. The economy of the area was based on marsh resources with hunting and gathering in this North Coast Range area. The semi-permanent village usually had several family groups that migrated to other seasonal camps throughout the growing season.

Prior to 1967, human remains representing, at minimum, one individual were removed from the Old Post Office site in Novato, Marin County, CA. The human remains are two fragments donated to the museum in 1967. No known individuals are present. No associated funerary objects are present.

The Old Post Office site is within the traditional area of the Coast Miwok Indians. It is estimated that the Miwok occupied the area for over 3000 years, though perhaps not continuously. The economy of the area was based on marsh resources with hunting and gathering in this North Coast Range area.

The Coast Miwok Indians are represented today by the Federated Indians of Graton Rancheria, California.

Determinations Made by the Museum of the American Indian

Officials of the Museum of the American Indian have determined that:

• Pursuant to 25 U.S.C. 3001(9), the human remains described in this notice represent the physical remains of 15 individuals of Native American ancestry.

• Pursuant to 25 U.S.C. 3001(2), there is a relationship of shared group identity that can be reasonably traced between the Native American human remains and the Federated Indians of Graton Rancheria, California.

Additional Requestors and Disposition

Lineal descendants or representatives of any Indian tribe or Native Hawaiian organization not identified in this notice that wish to request transfer of control of these human remains should submit a written request with information in support of the request to Colleen Hicks, Museum of the American Indian, P.O. Box 864, Novato, CA 94948, telephone (415) 897-4064, fax (415) 892-7804, email office@marinindian.com, by August 11, 2016. After that date, if no additional requestors have come forward, transfer of control of the human remains to the Federated Indians of Graton Rancheria, California, may proceed.

The Museum of the American Indian is responsible for notifying the Federated Indians of Graton Rancheria, California, that this notice has been published.

Dated: June 24, 2016.
Melanie O'Brien,
Manager, National NAGPRA Program.

[FR Doc. 2016-16374 Filed 7-11-16; 8:45 am]

BILLING CODE 4312-50-P